NATIONAL SCIENCE FOUNDATION

Extension of Comment Period for An Environmental Assessment of a Marine Geophysical Survey by the Coast Guard Cutter Healy Across the Arctic Ocean, August-September 2005

AGENCY: National Science Foundation.

ACTION: Notice of extension of comment period.

SUMMARY: The National Science Foundation is extending the comment period for the Environmental Assessment of a Marine Geophysical Survey by the Coast Guard Cutter Healy Across the Arctic Ocean, August-September 2005, published on April 11, 2005 (70 FR 18431). The environmental assessment describes a marine geophysical survey across the Arctic Ocean. This action extends the comment period for 15 days.

DATES: Comments on the preliminary plan will be accepted through May 26, 2005.

ADDRESSES: Comments should be submitted to Dr. Polly A. Penhale, National Science Foundation, Office of Polar Programs, 4201 Wilson Blvd., Suite 755, Arlington, VA 22230. Telephone: (703) 292-8033, Copies of the draft Environmental Assessment are available upon request from Dr. Penhale, or at the Web site: http://www.nsf.gov/od/opp/arctic/arc_envir/healy_ea.pdf.

SUPPLEMENTARY INFORMATION: On April 11, 2005 (70 FR 18432), NSF published a notice of availability of an Environmental Assessment of a Marine Geophysical Survey by the Coast Guard Cutter Healy Across the Arctic Ocean, August-September 2005.

The original comment was May 11, 2005. A stakeholder group will be meeting shortly before this deadline. This action extends the comment period for 15 days to allow stakeholders adequate time to review the environmental assessment and prepare comments.

Nadene Kennedy,
Permit Officer, Office of Polar Programs, National Science Foundation.

[FR Doc. 05-8399 Filed 4-26-05; 8:45 am]

BILLING CODE 7555-01-M